DEPARTMENT OF HOMELAND SECURITY

Coast Guard

[CGD08-07-013]

Gulf of Mexico Area Maritime Security Committee; Vacancies

AGENCY: Coast Guard, DHS.

ACTION: Solicitation for membership.

SUMMARY: The Coast Guard seeks applications for membership in the Gulf of Mexico Area Maritime Security Committee (GOMAMSC). The Committee assists the Captain of the Port/Federal Maritime Security Coordinator (Commander, Eighth Coast Guard District) for the portion of the Gulf of Mexico that is within the Eighth Coast Guard District and outside of state waters in developing, reviewing, exercising, and updating the Area Maritime Security Plan.

DATES: Requests for membership should reach Commander, Eighth Coast Guard District on or before August 1, 2007.

ADDRESSES: Requests for membership should be submitted to the following address: Commander, Eighth Coast Guard District(dxc), Attn: Mr. Guy Tetreau, Hale Boggs Federal Building, 500 Poydras Street, Rm 1341, New Orleans, LA 70130-3310.

FOR FURTHER INFORMATION CONTACT: Mr. Guy Tetreau at (504) 671-2155.

SUPPLEMENTARY INFORMATION:

The Committee

The Gulf of Mexico Area Maritime Security Committee (GOMAMSC) is established under, and governed by, 33 CFR part 103, subpart C. The functions of the Committee include, but are not limited to, the following:

(1) Identifying critical port infrastructure and operations;

(2) Identifying risks (i.e. threats, vulnerabilities, and consequences);

(3) Determining mitigation strategies and implementation methods;

(4) Developing and describing the process to continually evaluate overall port security by considering consequences and vulnerabilities, how they may change over time, and what additional mitigation strategies can be applied;

(5) Advising and assisting the Captain of the Port in developing, reviewing, and updating the Area Maritime Security Plan under 33 CFR part 103, subpart E.

(6) Participating in the development and evaluation of the required annual exercise of the Area Maritime Security Plan.

Positions Available on the Committee

Up to seven persons may be selected for the committee Members may be selected from:

(1) The Federal, Territorial, or Tribal government;

(2) The State government and political subdivisions of the State;

(3) Local public safety, crisis management, and emergency response agencies;

(4) Law enforcement and security organizations;

(5) Maritime industry, including labor;

(6) Other port stakeholders having a special competence in maritime security; and

(7) Port stakeholders affected by security practices and policies.

In support of the Coast Guard's policy on gender and ethnic diversity, we encourage qualified women and members of minority groups to apply.

Qualification of Members

Members should have at least 5 years of experience related to maritime or port security operations. Applicants may be required to pass an appropriate security background check prior to appointment to the committee.

Normal terms of office will be 5 years; however, some members may receive shorter terms to establish a reasonable rotation to avoid a major turnover every five years. Members may serve additional terms of office and current members are encouraged to reapply.

Members are expected to register in Homeport, the Coast Guard maritime security information system for providing information (including sensitive security information) and services to the public over the internet, and regularly participate in meetings and standing/ad-hoc sub-committees/work groups including the development and evaluation teams for the annual security exercise of the Area Maritime Security Plan. Members will not receive any salary or other compensation for their service on the GOMAMSC.

Format of Applications

Those seeking membership are not required to submit formal applications, however, because a specific number of members must have prerequisite maritime security experience, submission of resumes highlighting experience in the maritime and security industries is encouraged.

Authority

Section 102 of the Maritime Transportation Security Act (MTSA) of 2002 (Pub. L. 107-295) added section 70112 to Title 46 of the U.S. Code, and authorizes the Secretary of the Department in which the Coast Guard is operating to establish Area Maritime Security Committees for any port area of the United States. (See 33 U.S.C. 1226; 46 U.S.C.; 33 CFR 1.05-1, 6.01; Department of Homeland Security Delegation No. 0170.1). The MTSA includes a provision exempting these Area Maritime Security (AMS) Committees from the Federal Advisory Committee Act (FACA), 5 U.S.C. App. (Pub. L. 92-436).

Dated: June 12, 2007.
J.R. Whitehead,
Rear Admiral, U.S. Coast Guard, Commander, Eighth Coast Guard District.

[FR Doc. E7-12684 Filed 6-29-07; 8:45 am]

BILLING CODE 4910-15-P